DEPARTMENT OF JUSTICE

Notice of Lodging of Proposed Consent Decree Under the Federal Air Pollution Prevention and Control Act (Clean Air Act)

On September 30, 2015 the Department of Justice lodged a proposed Consent Decree with the United States District Court for the District of the District of Columbia in the lawsuit entitled United States v. Tractor Supply Company, Inc. and Tractor Supply Company of Texas, L.P., Civil Action No. 1:15-cv-01589.

The United States' complaint, filed simultaneously with the proposed Consent Decree, seeks civil penalties and injunctive relief for violations of the Clean Air Act and its implementing regulations that govern the importation, sale, offering for sale, or otherwise introducing into commerce, of recreational vehicles and small non-road spark-ignition engines. The complaint alleges that the defendants imported and then offered for sale, sold, or otherwise introduced into commerce, 28,265 recreational vehicles and small non-road spark ignition engines between 2006 and 2009 that were not properly certified as compliant with the Clean Air Act's applicable regulations, and failed to provide complete and accurate information in response to an EPA request for information. The proposed Consent Decree requires the defendants to pay a civil penalty of $775,000, to implement a project to mitigate the effects of air pollution emissions arising from the sale of the allegedly noncompliant vehicles and engines, and to implement a corporate compliance plan including inspections, emissions and catalyst testing, and training and reporting requirements for both imported and domestically-produced products.

The publication of this notice opens a period for public comment on the proposed Consent Decree. Comments should be addressed to the Assistant Attorney General, Environment and Natural Resources Division, and should refer to United States v. Tractor Supply Company, Inc. and Tractor Supply Company of Texas, L.P., D.J. Ref. No. 90-5-2-1-10153. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $21.25 (25 cents per page reproduction cost) payable to the United States Treasury. For a paper copy without the appendices and signature pages, the cost is $8.25.

Karen Dworkin,
Assistant Section Chief, Environmental Enforcement Section, Environment and Natural Resources Division.

[FR Doc. 2015-25419 Filed 10-6-15; 8:45 am]

BILLING CODE 4410-15-P